COMMITTEE FOR PURCHASE FROM PEOPLE WHO ARE BLIND OR SEVERELY DISABLED

Information Collection To Be Submitted to the Office of Management and Budget (OMB) for Approval Under the Paperwork Reduction Act; Individual Eligibility Evaluation

AGENCY: Committee for Purchase From People Who Are Blind or Severely Disabled.

ACTION: Notice; request for comments.

SUMMARY: The Committee for Purchase From People Who Are Blind or Severely Disabled (Committee) will submit the collection of information listed below to the Office of Management and Budget (OMB) for review and approval under the provisions of the Paperwork Reduction Act. This notice solicits comments on this collection of information.

DATES: Submit your written comments on the information collection on or before August 26, 2015.

ADDRESSES: Submit your comments on the requirement to Lou Bartalot, Director Compliance, Committee for Purchase from People Who Are Blind or Severely Disabled, 1401 South Clark Street, Suite 715, Arlington, VA 22202; fax (703) 603-0655; or email rulecomments@abilityone.gov.

FOR FURTHER INFORMATION CONTACT: To request a copy of the applicable form or explanatory material, contact Lou Bartalot or Amy Jensen at addresses in the above paragraph.

SUPPLEMENTARY INFORMATION: The Office of Management and Budget (OMB) regulations at 5 CFR part 1320, which implement provisions of the Paperwork Reduction Act of 1995 (44 U.S.C. 3501 et seq.), require that interested members of the public and affected agencies have an opportunity to comment on information collection and recordkeeping activities (see 5 CFR 1320.8(d)). The Committee plans to submit a request to OMB renew its approval of form used for the initial and annual evaluations of competitive employability required by the Committee's regulations (41 CFR 51-4.3). The Committee is requesting a 3-year term of approval for this recordkeeping activity.

Federal agencies may not conduct or sponsor, and a person is not required to respond to, a collection of information unless it displays a currently valid OMB control number. The OMB control number for this collection is 3037-0011.

The JWOD Act of 1971 (41 U.S.C. 8501 et seq.) is the authorizing legislation for the AbilityOne Program. The AbilityOne Program creates jobs and training opportunities for people who are blind or who have other significant disabilities. Its primary means of doing so is by requiring Government agencies to purchase products and services provided by nonprofit agencies employing such individuals. The AbilityOne Program is administered by the Committee. Two national, independent organizations, National Industries for the Blind (NIB) and SourceAmerica, help State and private nonprofit agencies participate in the AbilityOne Program.

The implementing regulations for the JWOD Act, which are located at 41 CFR chapter 51, provide the requirements, procedures, and standards for the AbilityOne Program. Section 51-4.3 of the regulations sets forth the standards that a nonprofit agency must meet to maintain qualification for participation in the AbilityOne Program. Under this section of the regulations, a nonprofit agency that wants to continue to participate in the AbilityOne Program must conduct evaluations on each individual performing direct labor to determine their capability to engage in normal competitive employment at least annually.

This information collection renewal request seeks approval for the Committee to continue to require the use of a standardized, Committee-developed, form to record the evaluation.

Title: AbilityOne Program Individual Eligibility Evaluation.

OMB Control Number: 3037-0011.

Form Number: Committee Form IEE.

Description of Respondents: Nonprofit agencies serving people who are blind or severely disabled that participate in the AbilityOne Program.

Annual Number of Respondents: About 570 nonprofit agencies serving people who are blind or significantly disabled that participate in the AbilityOne Program.

Estimated Total Annual Burden Hours: Burden for conducting the evaluations is included in the Committee's recordkeeping requirement under OMB Control number 3037-005.

We invite comments concerning this renewal on: (1) Whether the collection of information is necessary for the proper performance of our agency's functions, including whether the information will have practical utility; (2) the accuracy of our estimate of the burden of the collection of information; (3) ways to enhance the quality, utility, and clarity of the information to be collected; and (4) ways to minimize the burden of the collection of information.

Dated: June 23, 2015.
Barry S. Lineback,
Director, Business Operations.

[FR Doc. 2015-15705 Filed 6-25-15; 8:45 am]

BILLING CODE 6353-01-P